COMMITTEE FOR PURCHASE FROM PEOPLE WHO ARE BLIND OR SEVERELY DISABLED

Procurement List; Proposed additions and deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities and deletes product(s) and service(s) previously furnished by such agencies.

DATES: Comments must be received on or before: September 22, 2024.

ADDRESSES: Committee for Purchase From People Who Are Blind or Severely Disabled, 355 E Street SW, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

On 5/31/2024 (89 FR 47135), the Committee for Purchase From People Who Are Blind or Severely Disabled (operating as the U.S. AbilityOne Commission) stated that a service proposed for addition to the Procurement List at Fort Liberty, NC, was a Base Operations Services requirement. This statement was in error. The service type is Base Operation Support, Sustainment, Restoration, and Modernization (SRM) (Barracks only), which is hereby corrected by publishing this Notice. Because the prior Notice fully complied with 41 CFR 51-2.3 by allowing for 30 days of public comment, additional public comments to this correction must be received by 9/1/2024 to meet contracting activity award timing. The Committee will consider public comments previously received under 89 FR 47135 together with any public comments received pursuant to this correction.

The following service(s) are proposed for addition to the Procurement List for production by the nonprofit agencies listed:

Service(s)

Service Type: Base Operation Support, Sustainment, Restoration, and Modernization (SRM) (Barracks only)

Mandatory for: US Army, DPW, Fort Liberty, Fort Liberty, NC

Authorized Source of Supply: Skookum Educational Programs, Bremerton, WA

Contracting Activity: DEPT OF THE ARMY, W2V6 USA ENG SPT CTR HUNTSVIL, CA

Deletions

The following service(s) are proposed for deletion from the Procurement List:

Service(s)

Service Type: Grounds Maintenance

Mandatory for: Federal Aviation Administration, Patrick Henry Field (PHF) Air Traffic Control Tower, Newport News, VA, 2402 G Avenue, Newport News, VAMandatory Source of Supply: VersAbility Resources, Inc., Hampton, VA

Contracting Activity: FEDERAL AVIATION ADMINISTRATION, 697DCK REGIONAL ACQUISITIONS SVCS

Michael R. Jurkowski,
Director, Business Operations.

[FR Doc. 2024-18926 Filed 8-22-24; 8:45 am]

BILLING CODE 6353-01-P